DEPARTMENT OF COMMERCE

National Oceanic and Atmospheric Administration

50 CFR Part 660

[Docket No. 231211-0299]

RIN 0648-BM44

Fisheries Off West Coast States; Coastal Pelagic Species Fisheries; Biennial Specifications; 2023-2024 and 2024-2025 Specifications for Pacific Mackerel

AGENCY: National Marine Fisheries Service (NMFS), National Oceanic and Atmospheric Administration (NOAA), Commerce.

ACTION: Final rule.

SUMMARY: NMFS is implementing allowable harvest levels and harvest reference points, including the overfishing limit, acceptable biological catch, and annual catch limit, for Pacific mackerel in the exclusive economic zone off the U.S. West Coast (California, Oregon, and Washington) for the fishing seasons 2023-2024 and 2024-2025. The allowable harvest levels include a harvest guideline and annual catch target for the 2023-2024 fishing season of 7,871 metric tons (mt) and 6,871 mt, respectively and a harvest guideline and annual catch target for the 2024-2025 fishing season of 8,943 mt and 7,943 mt, respectively. If the fishery attains the annual catch target in either fishing season, the directed fishery will close, reserving the 1,000-mt difference between the harvest guideline and annual catch target as a set-aside for incidental landings in other Coastal Pelagic Species fisheries and other sources of mortality. This final rule is made pursuant to the Coastal Pelagic Species Fishery Management Plan and is intended to conserve and manage the Pacific mackerel stock off the U.S. West Coast.

DATES: Effective December 15, 2023.

FOR FURTHER INFORMATION CONTACT: Heather Fitch, West Coast Region, NMFS, (360) 302-6549, Heather.Fitch@noaa.gov.

SUPPLEMENTARY INFORMATION: Under the Magnuson-Stevens Fishery Conservation and Management Act (Magnuson-Stevens Act), 16 U.S.C. 1801 et seq., NMFS manages the Pacific mackerel fishery in the U.S. exclusive economic zone (EEZ) off the West Coast in accordance with the Coastal Pelagic Species (CPS) Fishery Management Plan (FMP). The CPS FMP and its implementing regulations require NMFS to set annual harvest specifications for the Pacific mackerel fishery based on the annual specification framework and control rules in the FMP. The Pacific mackerel fishing season runs from July 1 to June 30. This final rule implements these harvest specifications, which include allowable harvest levels (i.e., annual catch target (ACT) and harvest guideline (HG)), an annual catch limit (ACL), and annual catch reference points (i.e., overfishing limit (OFL) and acceptable biological catch (ABC)). This final rule adopts, without changes, the harvest specifications that NMFS proposed in the rule published on September 29, 2023 (88 FR 67222). The proposed rule for this action included additional background on the specifications and details on how the Pacific Fishery Management Council (Council) derived its recommended specifications for Pacific mackerel. Those details are not repeated here.

The uncertainty surrounding the current biomass estimates for Pacific mackerel for the 2023-2024 and 2024-2025 fishing seasons was taken into consideration in the development of these harvest specifications. Any Pacific mackerel harvested between July 1, 2023, and the effective date of the final rule will count toward the 2023-2024 ACT and HG.

The Council recommended, and NMFS is implementing, Pacific mackerel harvest specifications for both the 2023-2024 and 2024-2025 fishing seasons. For the 2023-2024 Pacific mackerel fishing season these include an OFL of 11,693 mt, an ABC and ACL of 9,754 mt, a HG of 7,871 mt, and an ACT of 6,871 mt. For the 2024-2025 Pacific mackerel fishing season these include an OFL of 12,765 mt, an ABC and ACL of 10,073 mt, a HG of 8,943 mt, and an ACT of 7,943 mt. These catch specifications are based on the OFL and ABC control rules established in the CPS FMP, recommendations from the Council's SSC and other advisory bodies, and biomass estimates of 55,681 mt (2023-2024) and 60,785 mt (2024-2025). The biomass estimates are the result of a benchmark stock assessment the NMFS Southwest Fishery Science Center completed in June 2023, which was reviewed by a Stock Assessment Review Panel.¹ At the June 2023 Council meeting, the Council's Scientific and Statistical Committee (SSC) reviewed and approved, and the Council adopted, the 2023 benchmark stock assessment and resulting biomass estimates as the best scientific information available for setting harvest specifications for the 2023-2024 and 2024-2025 Pacific mackerel fishing seasons.

¹ Stock Assessment Review (STAR) Panel meetings are formal, public, multiple-day meetings of stock assessment experts who conduct a detailed technical evaluation of full (e.g., benchmark) stock assessments. The 2023 Pacific Mackerel STAR Panel meeting was held April 11-13, 2023.

Under this action, in the unlikely event that catch reaches the ACT in either fishing season, directed fishing will close, reserving the difference between the HG and ACT (1,000 mt) as a set-aside for incidental landings in other fisheries and other sources of mortality.² For the remainder of the fishing season, incidental landings in CPS fisheries will be constrained to a 45 percent incidental catch allowance (in other words, no more than 45 percent by weight of the CPS landed per trip may be Pacific mackerel); and in non-CPS fisheries, up to 3 mt of Pacific mackerel may be landed incidentally per fishing trip. The incidental set-aside is intended to allow continued operation of fisheries for other stocks, particularly other CPS stocks that may school with Pacific mackerel.

² Directed fishing for live bait and minor directed fishing is allowed to continue during a closure of the directed fishery.

The NMFS West Coast Regional Administrator will publish a notice in the Federal Register announcing the date of any closure of directed fishing (when harvest levels are expected to reach or exceed the ACT). Additionally, to ensure the regulated community is informed of any closure, NMFS will also make announcements through other means available, including email to fishermen, processors, and state fishery management agencies.

NMFS published a proposed rule on September 29, 2023 (88 FR 67222) and received no public comments.

Classification

Pursuant to section 304(b)(3) of the Magnuson-Stevens Act, the NMFS Assistant Administrator has determined that this final rule is consistent with the CPS FMP, other provisions of the Magnuson-Stevens Act, and other applicable law.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

List of Subjects in 50 CFR Part 660

Fisheries, Fishing, Reporting and recordkeeping requirements.

Dated: December 11, 2023.
Samuel D. Rauch, III
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.511, revise paragraphs (i)(1) and (2) to read as follows:

§ 660.511 Catch restrictions.

* * * * *

(i) * * *

(1) For the Pacific mackerel fishing season July 1, 2023, through June 30, 2024, the harvest guideline is 7,871 mt and the ACT is 6,871 mt; and

(2) For the Pacific mackerel fishing season July 1, 2024, through June 30, 2025, the harvest guideline is 8,943 mt and the ACT is 7,943 mt.

* * * * *

[FR Doc. 2023-27532 Filed 12-14-23; 8:45 am]

BILLING CODE 3510-22-P